DEPARTMENT OF ENERGY

Environmental Management Site-Specific Advisory Board, Hanford

AGENCY: Department of Energy.

ACTION: Notice of open meeting.

SUMMARY: This notice announces a meeting of the Environmental Management Site-Specific Advisory Board (EM SSAB), Hanford. The Federal Advisory Committee Act (Pub. L. 92-463, 86 Stat. 770) requires that public notice of this meeting be announced in the Federal Register.

DATES: Thursday, February 1, 2007, 9 a.m.-5 p.m.; Friday, February 2, 2007, 8:30 a.m.-4 p.m.

ADDRESSES: Red Lion Hanford House, 802 George Washington Way,Richland, Washington.

FOR FURTHER INFORMATION CONTACT: Erik Olds, Federal Coordinator, Department of Energy Richland Operations Office, 2440 Stevens Drive, P.O. Box 450, H6-60, Richland, WA 99352; Phone: (509) 376-8656; Fax: (509) 376-1214.

SUPPLEMENTARY INFORMATION: Purpose of the Board: The purpose of the Board is to make recommendations to DOE in the areas of environmental restoration, waste management, and related activities.

Tentative Agenda

• Columbia River Toxic Program

• Budgets and Contracts Committee advice on Hanford's Request for Proposals

• Public Involvement and Tank Waste Committees update from the workgroup covering the Tank Closure and Waste Management

• Hanford Advisory Board Charter Changes

• Change of Advisory Board Chair

• Advice from the Health, Safety and Environmental Protection Committee on worker compensation

• Advice from the Public Involvement Committee on the 2009 budget involvement process

• Agency Updates

• Committee Updates

Public Participation: The meeting is open to the public. Written statements may be filed with the Board either before or after the meeting. Individuals who wish to make oral statements pertaining to agenda items should contact Erik Olds' office at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: The minutes of this meeting will be available for public review and copying at the U.S. Department of Energy's Freedom of Information Public Reading Room, 1E-190, Forrestal Building, 1000 Independence Avenue, SW., Washington, DC 20585 between 9 a.m. and 4 p.m., Monday-Friday, except Federal holidays. Minutes will also be available by writing to Erik Olds' office at the address or telephone number listed above.

Issued at Washington, DC, on January 4, 2007.
Rachel M. Samuel,
Deputy Advisory Committee Management Officer.

[FR Doc. E7-87 Filed 1-8-07; 8:45 am]

BILLING CODE 6450-01-P